FEDERAL COMMUNICATIONS COMMISSION

47 CFR Part 25

[FCC 14-109]

Extension of the Consummation Deadline for Space and Earth Station License Transfers and Assignments

AGENCY: Federal Communications Commission.

ACTION: Final rule.

SUMMARY: This document amends the Commission's rules to extend the time by which parties must consummate an approved satellite space station or earth station license assignment or transfer of control from 60 to 180 days. This will provide parties greater flexibility to set closing dates, decrease the need to file extension of time requests, and harmonize this consummation deadline with that in other wireless services.

DATES: Effective August 28, 2014.

FOR FURTHER INFORMATION CONTACT: Clay DeCell, 202-418-0803.

SUPPLEMENTARY INFORMATION: This is a summary of the Commission's Order, FCC 14-109, adopted July 31, 2014, and released August 1, 2014. The full text of the Order is available for download at https://apps.fcc.gov/edocs_public/. It is also available for inspection and copying during business hours in the FCC Reference Information Center, Portals II, 445 12th Street SW., Room CY-A257, Washington, DC 20554. To request materials in accessible formats for people with disabilities, send an email to FCC504@fcc.gov or call the Consumer & Governmental Affairs Bureau at 202-418-0530 (voice), 202-418-0432 (TTY).

Synopsis of the Order

By this Order, we amend § 25.119(f) of the Commission's rules to extend the time by which parties must consummate an approved satellite space station or earth station license assignment or transfer of control from 60 to 180 days. This amendment is part of the Commission's process reform initiative and will provide parties greater flexibility to set closing dates, decrease the need to file extension of time requests, and harmonize this consummation deadline with that in other wireless services. Because this amendment involves a rule of agency procedure, general notice and an opportunity to comment are not required. 5 U.S.C. 553(b)(A).

Section 25.119(f) of the Commission's rules requires space station and earth station licensees to consummate an assignment or transfer of control within 60 days from the date of authorization. 47 CFR 25.119(f). This period is shorter than the 180-day consummation period for wireless licenses, which are often involved in the same transaction with satellite licenses. See 47 CFR 1.948(d). Moreover, many space station and earth station licensees seek Commission approval well in advance of closing a transaction, and may need more than 60 days to consummate after Commission authorization. This can result in the filing of requests to extend the consummation deadline, and these requests have been granted.

To address this issue, a staff working group recommended, under Recommendation 5.30 of its Process Reform Report, extending the 60-day consummation period to 180 days. We find that it is in the public interest to adopt this recommendation. The amendment will remove unnecessary administrative burdens by eliminating the filing of such extension of time requests. A 180-day deadline may also facilitate transactions involving a company holding licenses in multiple services.

We hereby modify § 25.119(f) of our rules consistent with Recommendation 5.30. Accordingly, parties to an approved license transfer or assignment will be required to consummate the transaction within 180 days from the date of authorization, instead of within 60 days.

Accordingly, it is ordered that, pursuant to sections 4(i) and 4(j) of the Communications Act, as amended, 47 U.S.C. 154(i), (j), and section 553(b)(A) of the Administrative Procedure Act (APA), 5 U.S.C. 553(b)(A), § 25.119(f) of the Commission's rules, 47 CFR 25.119(f), is amended as described above.

It is further ordered that this Order is effective upon publication in the Federal Register, pursuant to section 553(d)(1) of the APA, 5 U.S.C. 553(d)(1). As a result, the new rule will apply to all transfers and assignments that are pending or have been approved, but not consummated, at the time of, and after, Federal Register publication.

Procedural Matters

This action does not require notice and comment, and therefore is not subject to the Regulatory Flexibility Act of 1980, as amended. See 5 U.S.C. 601(2), 603(a).

This document does not contain new or modified information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

The Commission will not send a copy of this Order pursuant to the Congressional Review Act, see 5 U.S.C. 801(a)(1)(A), because the amended rule is a rule of agency organization, procedure, or practice that does not “substantially affect the rights or obligations of non-agency parties.”

List of Subjects in 47 CFR Part 25

Administrative practice and procedure.

Federal Communications Commission.
Gloria J. Miles,
Federal Register Liaison.

For the reasons stated in the preamble, the Federal Communications Commission amends 47 CFR part 25 as follows:

PART 25—SATELLITE COMMUNICATIONS

1. The authority citation for part 25 is revised to read as follows:

Authority: Interprets or applies sections 4, 301, 302, 303, 307, 309, 310, 319, 332, 705, and 721 of the Communications Act, as amended, 47 U.S.C. 154, 301, 302, 303, 307, 309, 310, 319, 332, 605, and 721, unless otherwise noted.

2. In § 25.119 revise the first sentence of paragraph (f) to read as follows:

§ 25.119 Assignment or transfer of control of station authorization.

* * * * *

(f) Assignments and transfers of control shall be completed within 180 days from the date of authorization. * * *

* * * * *

[FR Doc. 2014-20302 Filed 8-27-14; 8:45 am]

BILLING CODE 6712-01-P